DEPARTMENT OF ENERGY

Federal Energy Regulatory Commission

[Project No. 2100-134]

California Department of Water Resources; Notice of Meeting

a. Project Name and Number: Feather River Hydroelectric Project No. 2100-134.

b. Applicant: California Department of Water Resources.

c. Date and Time of Meeting: Tuesday, December 16th, 2025, from 2:00 p.m. to 3:00 p.m. Eastern Standard Time (11:00 a.m. to 12:00 p.m. Pacific Standard Time).

d. FERC Contact: Ousmane Sidibe at (202) 502-6245 or ousamane.sidibe@ferc.gov.

e. Purpose of Meeting: As requested by the Mooretown Rancheria of Maidu Indians, Commission staff will hold a meeting with representatives from the Tribe to discuss the Tribe's concerns for the proposed relicensing of the Feather River Hydroelectric Project. The meeting will be held virtually via Microsoft Teams.

f. Intervenors in the referenced proceeding may attend the meeting as observers; however, participation will be limited to representatives from the Mooretown Rancheria of Maidu Indians and Commission staff. If meeting attendees decide to disclose information about a specific location which could create a risk or harm to an archaeological site or Native American cultural resource, attendees other than representatives from the Mooretown Rancheria of Maidu Indians and Commission staff will be excused for that portion of the meeting.

g. A summary of the meeting will be placed in the public record of this proceeding. As appropriate, the meeting summary will include both a public, redacted version that excludes any information about the specific location of the archeological site or Native American cultural resource and an unredacted privileged version. Intervenors planning to attend the meeting should notify Ousmane Sidibe at (202) 502-6245 or ousamane.sidibe@ferc.gov by Friday, December 12th to RSVP and to receive specific instructions for logging in to the meeting.

Authority: 18 CFR 2.1.

Dated: November 24, 2025.
Debbie-Anne A. Reese,
Secretary.

[FR Doc. 2025-21492 Filed 11-26-25; 8:45 am]

BILLING CODE 6717-01-P